DEPARTMENT OF THE TREASURY

Fiscal Service

Surety Companies Acceptable on Federal Bonds—Terminations: The Buckeye Union Insurance Company, The Fidelity and Casualty Company of New York; Firemen's Insurance Company of Newark, NJ

AGENCY: Financial Management Service, Fiscal Service, Department of the Treasury.

ACTION: Notice.

SUMMARY: This is Supplement No. 11 to the Treasury Department Circular 570, 2006 Revision, published June 30, 2006, at 71 FR 37694.

FOR FURTHER INFORMATION CONTACT: Surety Bond Branch at (202) 874-6850.

SUPPLEMENTARY INFORMATION: Notice is hereby given that the Certificates of Authority issued by the Treasury to the above-named companies under 31 U.S.C. 9305 to qualify as acceptable sureties on Federal bonds have been terminated. The above-named companies merged with and into The Continental Insurance Company effective December 31, 2006. The surviving corporation of the merger activity is The Continental Insurance Company, a Pennsylvania domiciled corporation. Federal bond-approving officials should annotate their reference copies of the Treasury Department Circular 570 (“Circular”), 2006 Revision, to reflect these changes.

In the event bond-approving officers have questions relating to bonds issued by the above-named companies that have merged with and into The Continental Insurance Company, they should contact The Continental Insurance Company at (877) 262-2727.

The Circular may be viewed and downloaded through the internet at http://www.fms.treas.gov/c570.

Questions concerning this notice may be directed to the U.S. Department of the Treasury, Financial Management Service, Financial Accounting and Services Division, Surety Bond Branch, 3700 East-West Highway, Room 6F01, Hyattsville, MD 20782.

Dated: May 24, 2007.
Vivian L. Cooper,
Director, Financial Accounting and Services Division, Financial Management Service.

[FR Doc. 07-2779 Filed 6-4-07; 8:45 am]

BILLING CODE 4810-35-M